DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for a request for an extension of the currently approved collection. The ICR describes the nature of the information collection and the expected burden. The Federal Register Notice with a 60-day comment period soliciting comments on the following collection of information was published on February 15, 2001, pages 10558-10559.

DATES: Comments must be submitted on or before September 24, 2001. A comment to OMB is most effective if OMB receives it within 30 days of publication.

FOR FURTHER INFORMATION CONTACT: Judy Street on (202) 267-9895.

SUPPLEMENTARY INFORMATION:

Federal Aviation Administration (FAA)

Title: High Density traffic Airports; Slot Allocation and Transfer Methods.

Type of Request: Extension of a currently approved collection.

OMB Control Number: 2120-0524.

Form(s): None.

Affected Public: 102 air carriers and commuter operators.

Abstract: The information collection requirements of the rule involve the air carriers or commuter operators notifying the FAA of their current and planed activities regarding use of the arrival and departure slots at the high-density airports. The FAA logs, verifies, and processes the requests made by the operators. This information is used to allocate and withdraw takeoff and landing slots at the high-denisty airports. The FAA logs, verifies, and processes the requests made by the operators. This information is used to allocate and withdraw takeoff and landing slots at the high-density airports, and confirms transfers of slots made among the operators.

Estimated Annual Burden Hours: 3064 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on August 17, 2001.
Steve Hopkins,
Manager, Standards and Information Division, APF-100.

[FR Doc. 01-21357 Filed 8-22-01; 8:45 am]

BILLING CODE 4910-13-M